DEPARTMENT OF TRANSPORTATION

Federal Aviation Administration

NextGen Advisory Committee (NAC); Meeting

AGENCY: Federal Aviation Administration (FAA), Department of Transportation.

ACTION: Notice of NextGen Advisory Committee (NAC) public meeting.

SUMMARY: The FAA is issuing this notice to advise the public of a meeting of the NAC.

DATES: The meeting will be held on October 31, 2018, starting at 8:30 a.m. Eastern Standard Time. Arrange oral presentations by October 16, 2018.

ADDRESSES: The meeting will take place at The MITRE Corporation, Building 1, MITRE 1 Conference Center, 7525 Colshire Dr., Tysons, VA 22102.

FOR FURTHER INFORMATION CONTACT: Greg Schwab, Federal Aviation Administration, 800 Independence Ave. SW, Washington, DC 20591, telephone (202) 267-1201, email gregory.schwab@faa.gov.

SUPPLEMENTARY INFORMATION: Pursuant to section 10(a)(2) of the Federal Advisory Committee Act (5 U.S.C., App. 2), we are giving notice of a meeting of the NAC taking place on October 31, 2018.

The Draft Agenda Includes

1. Official Statement of Designated Federal Official

2. NAC Chairman's Report

a. June 27, 2018 Meeting Summary [Approval]

3. FAA Report

4. Working Group Updates

a. NextGen Priorities Joint Implementation Rolling Plan Recommendation [Approval]

5. Any Other Business

The agenda will be published on the FAA Meeting web page (https://www.faa.gov/about/office_org/headquarters_offices/ang/nac/) once it is finalized.

Attendance is open to the interested public but limited to the space available. Please confirm your attendance by email to NACRegistration@Concept-Solutions.com no later than October 16, 2018. Please provide the following information: Full legal name, country of citizenship, and name of your industry association, or applicable affiliation. For Foreign National attendees, please also provide your country of citizenship, date of birth, and passport or diplomatic identification number with expiration date.

Upon arrival at the MITRE 1 Conference Center, all attendees must show photo identification that match the pre-registration name, specifically, government-issued photo identification (e.g., U.S. driver's license; passport for non-U.S. citizens; federal government identification card). Directions to MITRE 1 may be found at the following link: https://www.mitre.org/sites/default/files/pdf/mclean-campus-map.pdf.

With the approval of the NAC Chairman, members of the public may present oral statements at the meeting. The public must arrange by October 16, 2018, to present oral statements at the meeting. Additionally, if the statement pertains to the topic of the meeting and is approved, there will be a time limit of 2 minutes in order to accommodate other speakers and a full agenda. Members of the public may present a written statement to the committee at any time.

If you are in need of assistance or require a reasonable accommodation for this meeting, please contact the person listed under the heading FOR FURTHER INFORMATION CONTACT. Sign and oral interpretation, as well as a listening device, can be made available if requested 10 calendar days before the meeting.

Issued in Washington, DC, on October 10, 2018.
Tiffany Ottilia McCoy,
NextGen Office of Collaboration and Messaging, ANG-M, Office of the Assistant Administrator for NextGen, Federal Aviation Administration.

[FR Doc. 2018-22334 Filed 10-12-18; 8:45 am]

BILLING CODE 4910-13-P